FEDERAL COMMUNICATIONS COMMISSION

Notice of Public Information Collection Being Reviewed by the Federal Communications Commission under Delegated Authority, Comments Requested

October 29, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 4, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0599.

Title: Sections 90.425 and 90.647, Station Identification.

Form No.: N/A.

Type of Review: Extension of a currently approved collection.

Respondents: Business or other for-profit.

Number of Respondents: 209 respondents; 209 responses.

Estimated Time Per Response: 1.66 hours.

Frequency of Response: On occasion reporting requirement.

Obligation to Respond: Required to obtain or retain benefits. Statutory authority for this collection of information is contained in 47 U.S.C. sections 154(i), 309(j) and 332.

Total Annual Burden: 347 hours.

Privacy Act Impact Assessment: N/A.

Nature and Extent of Confidentiality: No questions of a confidential nature are asked or required.

Need and Uses: The Commission is requesting an extension (no change in the reporting requirement) in order to obtain the full three year clearance from the Office of Management and Budget (OMB). The Commission has increased the estimated burden hours by 272 hours which is due to 164 additional respondents since this information collection (IC) was last submitted to OMB in 2007.

In a November 1994 Third Report and Order, the Commission streamlined and conformed its rules concerning the transmission of station identification information by Commercial Mobile Radio Service (CMRS) licensees. The Commission concluded that CMRS licensees operating on an exclusive basis in Commission-defined service areas should generally not be required to transmit station identification. In the case of all other CMRS licensees, however, whether licensed exclusively on a site-specific basis or licensed on shared channels, the Commission continued to require transmission of station identification information on a regular basis n accordance with the standards set forth in Commission rules.

On reconsideration in April 2000, the Commission in addition to resolving various petitions, clarified that Part 90 licensees need only transmit station identification once an hour as specified in 47 CFR 90.425(e). Consistent with that change, the Commission also amended Section 90.647 to clarify that CMRS providers operating trunked systems are also subject only to the streamlined requirements of Section 90.425(e).

Because digital call sign transmission greatly reduces the burden of the call sign requirements for CMRS systems providing digital service, the Commission also permits all CMRS licensees on exclusive channels to transmit call signs digitally. To use a digital call sign, however, the licensee must provide the Commission with information sufficient to decode the digital transmission and ascertain the call sign transmitted.

Federal Communications Commission.
Alethea Lewis,
Information Specialist, Office of the Secretary, Office of Managing Director.

[FR Doc. E9-26536 Filed 11-3-09; 8:45 am]

BILLING CODE 6712-01-S